DEPARTMENT OF COMMERCE

International Trade Administration

[C-201-846]

Agreement Suspending the Countervailing Duty Investigation on Sugar From Mexico: Final Results of the 2023 Administrative Review

AGENCY: Enforcement and Compliance, International Trade Administration, Department of Commerce.

SUMMARY: The U.S. Department of Commerce (Commerce) determines that the Government of Mexico (GOM) and the respondent companies selected for individual examination, Azucarera San Jose De Abajo S.A. and Santa Rosalia de la Chontalpa, SA de CV and its affiliates, were in compliance with the terms of the Agreement Suspending the Countervailing Duty Investigation on Sugar from Mexico, as amended (CVD Agreement), during the period of review (POR) from January 1, 2023, through December 31, 2023. Commerce also determines that the CVD Agreement met the statutory requirements during the POR.

DATES: Applicable June 12, 2025.

FOR FURTHER INFORMATION CONTACT: Sally C. Gannon or Jill Buckles, Enforcement and Compliance, International Trade Administration, U.S. Department of Commerce, 1401 Constitution Avenue NW, Washington, DC 20230; telephone: (202) 482-0162 or (202) 482-6230, respectively.

SUPPLEMENTARY INFORMATION:

Background

On April 11, 2025, Commerce published the Preliminary Results of this administrative review.¹ We invited interested parties to comment on the Preliminary Results. No interested party submitted comments. Hence, these final results are unchanged from the Preliminary Results, and no memoranda accompany this notice.

¹ See Agreement Suspending the Countervailing Duty Investigation on Sugar From Mexico; Preliminary Results of the 2023 Administrative Review, 90 FR 15436 (April 11, 2025) (Preliminary Results), and accompanying Preliminary Decision Memorandum (PDM).

Scope of the CVD Agreement

The product covered by this CVD Agreement is raw and refined sugar of all polarimeter readings derived from sugar cane or sugar beets. Merchandise covered by this CVD Agreement is typically imported under the following headings of the HTSUS: 1701.12.1000, 1701.12.5000, 1701.13.1000, 1701.13.5000, 1701.14.1020, 1701.14.1040, 1701.14.5000, 1701.91.1000, 1701.91.3000, 1701.99.1015, 1701.99.1017, 1701.99.1025, 1701.99.1050, 1701.99.5015, 1701.99.5017, 1701.99.5025, 1701.99.5050, and 1702.90.4000.² The tariff classification is provided for convenience and customs purposes; however, the written description of the scope of this CVD Agreement is dispositive.

² Prior to July 1, 2016, merchandise covered by the CVD Agreement was classified in the HTSUS under subheading 1701.99.1010. Prior to January 1, 2020, merchandise covered by the CVD Agreement was classified in the HTSUS under subheadings 1701.14.1000 and 1701.99.5010.

A full description of the scope of the CVD Agreement is contained in the Preliminary Decision Memorandum.³

³ See Preliminary Results PDM at 3-4.

Analysis

Commerce continues to determine that the CVD Agreement met the statutory requirements under sections 704(c) and (d) of the Tariff Act of 1930, as amended (the Act), during the POR. We also continue to find that the GOM and respondents selected for individual examination were in compliance with the terms of the CVD Agreement during the POR.

Notification Regarding Administrative Protective Order (APO)

This notice also serves as a reminder to parties subject to an APO of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results of review in accordance with sections 751(a)(l) and 777(i)(l) of the Act, and 19 CFR 351.213 and 19 CFR 351.221(b)(5).

Dated: June 5, 2025.
Christopher Abbott,
Deputy Assistant Secretary for Policy and Negotiations, performing the non-exclusive functions and duties of the Assistant Secretary for Enforcement and Compliance.

[FR Doc. 2025-10733 Filed 6-11-25; 8:45 am]

BILLING CODE 3510-DS-P